OFFICE OF PERSONNEL MANAGEMENT

5 CFR Part 894

RIN 3206-AM57

Federal Employee Dental and Vision Insurance Program; Qualifying Life Event Amendments

AGENCY: U.S. Office of Personnel Management.

ACTION: Notice of Proposed Rulemaking.

SUMMARY: The U.S. Office of Personnel Management (OPM) is issuing a Notice of Proposed Rulemaking to change some conditions under which Federal employees may change an enrollment status under the Federal Employee Dental and Vision Insurance Program. OPM is proposing these changes to expand the opportunities for FEDVIP enrollment changes and therefore better align FEDVIP with the Federal Employees Health Benefits (FEHB) Program.

DATES: Comment date: Comments are due on or before February 21, 2014.

ADDRESSES: You may submit comments, identified by RIN number “3206-AM57” using any of the following methods:

Federal eRulemaking Portal: http://www.regulations.gov. Follow the instructions for submitting comments.

Mail: Planning and Policy Analysis, U.S. Office of Personnel Management, 1900 E Street NW., Washington, DC 20415, Michael W. Kaszynski.

FOR FURTHER INFORMATION CONTACT: Michael W. Kaszynski, Senior Policy Analyst at mwkaszyn@opm.gov or (202) 606-0004.

SUPPLEMENTARY INFORMATION: The U.S. Office of Personnel Management (OPM) is issuing a Notice of Proposed Rulemaking to change some of the requirements for Federal employees to make enrollment changes under the Federal Employee Dental and Vision Insurance Program (FEDVIP). OPM is proposing these changes to expand the opportunities for FEDVIP enrollment changes and therefore better align FEDVIP with the Federal Employees Health Benefits (FEHB) Program.

The Federal Employee Dental and Vision Benefits Enhancement Act of 2004 provided OPM the opportunity to establish arrangements under which supplemental dental and vision benefits were made available to federal employees, retirees, and their family members.

FEDVIP is available to eligible Federal and Postal employees, retirees, and their eligible family members on an enrollee-pay-all basis. This program allows dental and vision insurance to be purchased on a group basis with competitive premiums and no pre-existing condition limitations. Premiums for enrolled federal and postal employees are withheld from salary on a pre-tax basis.

Enrollment takes place during the annual Federal Benefits Open Season in November and December of each year. New and newly eligible employees can enroll within 60 days after they become eligible.

Eligible individuals can enroll in a dental plan and/or a vision plan. Individuals may enroll in a plan for Self-only, Self plus one, or Self and family coverage. The rules for family members' eligibility are the same as they are for the FEHB Program.

OPM is proposing to expand enrollment opportunities so FEDVIP enrollees can make enrollment changes under the same qualifying life events (QLEs) as enrollees under the FEHB Program. This Notice of Proposed rulemaking is intended to authorize this change.

Regulatory Impact Analysis

OPM has examined the impact of this proposed rule as required by Executive Order 12866 and Executive Order 13563, which directs agencies to assess all costs and benefits of available regulatory alternatives and, if regulation is necessary, to select regulatory approaches that maximize net benefits (including potential economic, environmental, public, health, and safety effects, distributive impacts, and equity). A regulatory impact analysis must be prepared for major rules with economically significant effects of $100 million or more in any one year. This rule is not considered a major rule because there will be a minimal impact on costs to Federal agencies.

Regulatory Flexibility Act

I certify that this regulation will not have a significant economic impact on a substantial number of small entities because the regulation only adds flexibility to the current enrollment process.

Executive Order 12866, Regulatory Review

This rule has been reviewed by the Office of Management and Budget in accordance with Executive Order 12866.

Federalism

We have examined this rule in accordance with Executive Order 13132, Federalism, and have determined that this rule will not have any negative impact on the rights, roles and responsibilities of State, local, or tribal governments.

List of Subjects in 5 CFR Part 894

Administrative practice and procedure, Employee benefit plans, Government employees, Reporting and recordkeeping requirements, Retirement.

U.S. Office of Personnel Management.
Katherine Archuleta,
Director.

Accordingly, OPM proposes to amend 5 CFR part 894 as follows:

PART 894—FEDERAL EMPLOYEE DENTAL AND VISION PROGRAM

1. The authority citation for part 894 continues to read as follows:

Authority: 5 U.S.C. 8962; 5 U.S.C. 8992; subpart C also issued under sec. 1 of Pub. L. 110-279, 122 Stat. 2604.

Subpart A—Administration and General Provisions

2. Section 894.101 is amended by removing the definition of QLE and adding in its place a definition of QLE qualifying life event to read as follows:

§ 894.101 Definitions.

* * * * *

QLE qualifying life event means an event in this part 894 that permits an enrollment change and also includes all applicable QLEs defined in 5 CFR part 892 allowing enrollment in FEHB for those making pre-tax payment of FEHB premiums.

* * * * *

Subpart E—Enrolling and Changing Enrollment

3. Section 894.502 is amended as follows:

§ 894.502 What are the Qualifying Life Events (QLEs) that allow me to enroll?

QLEs allowing enrollment in FEDVIP include the QLEs described in this part 894 and include applicable QLEs in 5 CFR part 892 allowing enrollment in FEHB for those making pre-tax payment of FEHB premiums.

4. Section 894.507 is amended by adding new paragraph (c) to read as follows:

§ 894.507 After I'm enrolled, may I change from one dental or vision plan or plan option to another?

* * * * *

(c) Outside of open season, you may change from one dental and/or vision plan to another plan or one plan option to another option if you have experienced a QLE. QLEs for dental and vision coverage are described in this part 894 and 5 CFR part 892 allowing enrollment in FEHB for those making pre-tax payment of FEHB premiums.

5. Section 894.508 is amended by revising paragraph (e) to read as follows:

§ 894.508 When may I increase my type of enrollment?

* * * * *

(e) QLEs for dental and vision coverage are described in this part 894 and 5 CFR part 892 allowing enrollment in FEHB for those making pre-tax payment of FEHB premiums.

[FR Doc. 2013-30413 Filed 12-20-13; 8:45 am]

BILLING CODE 6325-63-P